DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending June 30, 2025. For purposes of this listing, long-term residents, as defined in section 877(e)(2), are treated as if they were citizens of the United States who lost citizenship.

Last name | First name | Middle name/initials
ABDULMALIK | AHMED | ATIF
ABE | SUGURU
ACHESON | TARA | ANNABELLE ROSALIND
ACITO | ANGELA | JEAN
ADAM | BLAKE | IVO
AGNEW | SCOTT | RANDALL
AHN | HEE | JUN
AKIYAMA | AKIO
ALEKSEEV | GENNADY | A
ALEXANDER | SUSAN | CATHERINE
ALEXIS | GLENROY | JEFFERSON
ALGHANIM | HAMAD | TALAL
ALHAMAD | IMAD | RAYAN
ALI | MARYBETH
ALOWAIS | MARYAM | SALEN
ALTER | RONNEE | HELEN
AL-ZOUMAN | MASHAEL | MOHAMMED
AMALDI | ANDREA | GIULIO
AMIRALI | JABIR | HUSSAIN
ANDERSON | KENNETH | ALFRED
ANDREWS | RICHARD | RANDOLPH YARDLEY
ANDREWS | SUSAN | PATRICIA
ANGELINI | FABIO
ANKERS | HARRISON | ASHLEY
ANTONUCCI | ANTHONY | JAMES
ARD | SOPHIE | MEGAN
ARENSON | KENNETH | JAMES
ARIMA | YOKO
ARRON | EDWIN | SPRUCE
ASAMI | TAKESHI
ASAMI | TSUGUMI
ATTFIELD | ELISABETH | LOUISE
AUDUBON | MIYUKI
AVIS | JACK | ROBERT
AYRAULT | YUMI
BACKHOUSE | FERGUS | WYNTER
BARNES | BRENDAN | KENNETH
BARNES | JULIA
BARNES | STUART | MICHAEL
BARRY-JONES | ROSEANNE | CHRISTINE
BARSHTEYN | YELENA | MIKHAYLOVNA
BATTIG | PATRICK | MICHAEL
BAUMANN | CECILE | FRANCESCA
BAXTER | GARRY | WILLIAM
BEASLEY | TYLER | JAMES
BEAVAN | AMY | ELIZABETH
BECK | ALEXANDRA | ELIZABETH
BECKWITH | EMILY | ELIZABETH
BEKHAZI | GEORGES
BELL | MARY | LOU
BENAVOT | RUHAMA | RACHEL RIGBI
BENT | PETER | ALEC
BERCHTEN KESTENHOLZ | SYLVIA | MARGARETHA
BERGE | KAJ
BERGGREN | DISA | HELENA
BERGUNO | GEORGE
BERNSTEIN | MAX | ALEXANDRE
BERRY | ALEXIS | MARIE
BERTHOUD | DANIELLE | ANNA
BESTERMAN | JUSTIN | EDWARD
BEYER-BEIJER | TIM | ANTHONY
BHAGAT | CHINTAN | PARESH
BIANCHI | VIBIKA | TONI FRANCESCA
BICE | JANET | ELIZABETH
BICKLEY | SHAUN | LEE
BINNIE | KENNETH | JOHN
BIRKY | MARTY | JAY
BLACKBURN | KAYLA | MARIE
BLANKE | WOLF | ALBRECHT ANDREW
BLAUG | ADAM | MICHAEL
BLUMENFELD | PAUL | ERIC
BOCHUD | QUENTIN | PHILIPPE
BODDAM-WHETHAM | NICOLE | PAULA
BOLLER | SUSAN | ELIZABETH
BOLLOT | VINCENT | PAUL
BONIFACE | ANNA | LOUISE
BONMARIN | MARIE | A
BOSMAN | ALISON | ANN
BOTHOF | MATTIJN | WILLEM
BOUCHER | BRUCE | AMBLER
BOYD | JESSICA | E
BOYLE | ANDREW | JOHN
BRAD | ERIC | ARON
BRADLEY | ALEXANDRA | CLAIRE
BRAHM | JULIE | ANN
BRASALI | ARIEL | PUTRI
BRASALI | KAYLA | PUTRI
BRAVO-EINSTEIN | MATTIAS | SEBASTIAN
BREITHAUPT | DONALD | GEORGE
BRENCIC | CECILE
BRENCIC | SILVANO
BRENDEN | JUSTIN | JOSHUA
BRENNAN | CHRISTOPHER | JOHN
BRENNAN | ELLEN | CAMPELL
BRENNAN | PATRICIA | MARY
BRENNER | CAMERON | PHILIP CLARK
BRIGGS | VICKI | ANN
BROOKES | DIANA | ELIZABETH
BROOKS | MISAKO
BROUWER | CATHERINE | BURR
BROWN | JEREMY | BRANDON
BROWNE | NICHOLAS | LAWRENCE DEHNE
BROYLES | GREGORY | ROSS
BRUSTAD | CHETANA |
BRYDON | DAVID | RAY
BUCHNER | DANIEL | CLARK
BUCKLAND-LANGFIELD | VERONICA | LEA
BUECHTER | ROLAND | BRIAN GERD
BUGL | BJORN | CHRISTOPH
BURANAWATANACHOKE | SUPITI
BURKE | KELLY | MARIE
BURNELL | ANDREW | FRANK
BURRI | MICHAEL | STEPHAN
BURTOFT | EVELYN | AMANDA
BURTON | LILLIAN | MARGARET
BURTON | WILLIAM | CRAIG
BURTON | WILLIAM | REGIN
BUTCHER | JUSTIN | REED
CAIUSI | CHIARA
CALAMBA | CHARLENE | DIEL
CALDWELL | COURTENAY | RAY
CALLNER | JEREMY | LOUIS
CANCIAN | EDVIGE
CAO | LIYANG
CAPONERA | FRANCESCA | SUSANNA
CARLUCCI | SUSAN | MARY
CAROLL | JAMES | ROBERT
CARRINGTON | MATTHEW
CARSON | KARIN | MISONO
CARSON | KATHLEEN | ANN
CARTWRIGHT | EDMUND | RANDOLPH
CASADO PRESA | CRISTINA
CASE | KATHERINE | BRIGITTA
CASEL | KEIKO
CASSIDY | SONJA | KARIN
CASTLE | JESSICA | LYNN
CATER | NANCY | ANGELA SOPHIE
CATSIKEAS | DEBORAH | CATHERINE
CAWOOD | SANDRA | JANET
CERVENKA | EDWARD | MICHAEL
CHALLMAN | TIMOTHY | MERRILL
CHAMBERLAIN | MARC | MAURICE
CHAN | JACK | C
CHANDLER | ALEXANDER | EMERSON
CHANG | JULIA | SUZANNE
CHANG | MEI-HUI
CHARLESWORTH | AMANDA
CHATANI | EMI
CHEEVER | JILLIAN | RACHEL
CHEN | YU
CHENEY | MICHELLE | LEA
CHENG | CLARA | MEI YIN
CHENG | SZE | WAI
CHERIF | KARIM | EMMANUEL
CHEUNG | CLEMENT | KA MAN
CHO | HYE | SOOK
CHOI | ELIZABETH |
CHOI | JOON | SEONG
CHOU | ALAN
CHREIM | JONATHAN | CHAUOUD
CHRISTENSEN | HENRIK | HOLM
CHUANG | KATY | KE TI LIU
CHUMA | JONATHAN | DAVID
CLARKE | KARIN
CLAYTON-SORGE | JESSICA | LUISE
COLGAN | MARY
CONNELL | JOHN | WILLIAM
CORCORAN | GUY | EDWARD
CORLETT | OLIVER | STEPHEN
COROI | MIHAI | MICEA
COUBAN | BRIDGET | RUTH
COX | ANGELIN | PATRICIA
COX | EMMA
COYNE | JACINA | ELIZABETH
COYNE | LEONARD | DAVID
CRADDOCK | JUDITH | JANE
CRAKER | SUSAN | ROSEMARY
CRANFIELD | SIMON | ALEXANDER
CRANMER | CARR | SCOTT
CRAWFORD | LAUREL
CREETH | ANDREW | MARTIN
CUMMINGS | ZOE | MCCARRICK
CUNNINGHAM | NEVE
CUTHILL | DARCY | MICHELE
DALY | CATHAL | MICHAEL
DAVIDSON | DAWN | LOIS
DAVIDSON | JOSHUA | ALLEN
DAVIDSON | SARA | LOUISE
DAVIE | MAXINE | THERESE
DAVIES | JANE | CAROLINE
DAVIES | MICHAEL | HOWARD
DAVIS | KATHERINE | LOUISE
DAVISON | CORNELIA | FRANCES
DAVISON | JOHN | ADAMS
DE COURCY-WHEELER | SYLVIA | MARIA
DE FAVERI | PAOLA
DE LACROIX | JOELLE | S
DE NOLF | CLINT | BRADLEY
DE SOLAGES | CAMILLE | ANAELLE ELEONORE
DE WIT | FEMKE | MARIA
DEBOLT | LINDA | KAY
DEBOLT | THOMAS | EUGENE
DECKE | SOPHIE | FREDERIKA CORINNE
DEGOMBERT | PAULINE | MAY
DHALIWAL | NAVNEET
DHOND | MIHIR | SADANAND
DI AGOSTINO | CARLO
DIAS | KATIUCE | BORBA
DIDIZIAN | MARIE-SABRINA | CATHERINE
DILBERT | DAMIEN | ALEXANDER
DILLARSTONE | MARK | RICHARD
DIMMICK | GRACE | HUIPING
DINHAM | JANICE | A
DIX | SUSAN | DALE
DIXON | MICHAEL | YAN
DJEREJIAN | GREGORY
DOLAN | EUGEN | JAMES
DOLAN | MERCEDES | M
DOOLITTLE | MEGAN | DALE
DOORN | RONALD | JACK
DORFMANN | WILLIAM | FRANCIS
DORTER | GREGORY | ROSS
DOTSENKO | YAROSLAVA |
DOWLING | CAOIMHE | GRACE
DOWNING | ROSALEEN | ANN
DOWNING | ROY | ARTHUR
DU PARC | EMMANUELLE | MARIE
DU TOIT | ROSCAR
DUCE | GERALDINE
DUPREY-REED | LAUREE | ANN
DYMOND | MARY | HELEN
DYMOND | MICHAEL | WEST
EARL | KEVAN | CHARLES
EASTWOOD | ALEXANDER | JOHN
EBM | CHRISTOPH | WALTER
EBNER | KRISTIN | PATRICIA
EDWARDS | AURORA | BLUE
EDWARDS | BRIDGER | RAY
EGGER | OLIVER | HERBERT
EGLI | ANDINA | BETTINA
EGUCHI | JUNKO
EGUCHI | MASATO | H
EINARSON | NADINE | MINNA NANCY
EL-KHOURY | ANTHONY | GUY
ELLIS | CYNTHIA | JO
ELLIS | DONALD | EDWIN
ELTON | MARTIN | D
ERIKSSON | PETER | WILHELM
ESCOBAR | LANCE | MICHAEL
ESLING | NATALIA | MONIKA ELIZABETH
EVANS | JONATHAN | MARK
EVANS | YOSHIKA | TAKENAKA
EVANS-COLES | SUZANNE | STACEY
EYERS | RACHEL | ELEANORS
FADA | ALI | T
FAFAT | PRIYA | VIJAY
FAHMY | MONA | VIOLET
FALTUS | ROBERT | E
FARRANT | ALISTAIR | F
FARSEROTU | ALIX | MARIE CAROLINE
FATHI | ALBERT
FENG | YUNZHE
FERGUSON | JONATHAN | SCOTT
FERGUSON | LOTUS | BETH
FERNANDO | JOSEPH | PRIATH
FIELD | MEGAN | VANESSA
FIORANELLI | SPRING | LOLA
FISCHER | LUCIENNE | SARA
FLAATEN | FREDRIK
FLEMING | GORDON | MCRAE
FLETCHER | LLOYD | ALAN
FLINN BURTON | JAYNE | ELIZABETH
FLISKI | TOMMY | MARIUS NIKODEMUS
FLODINE | CHRISTIE | MARIE
FLOYER | JANET | ELEANOR
FOLLETT | LINDA | RUTH
FOLLING | IRENE | LUCILLE
FOLSOM | MICHAEL | STEVEN
FORSTER | ALISON | LAURA
FORSTER | JENNIFER | JOYCE
FORTUNE | BENJAMIN | LOUISE
FORTUNE | VERONICA | ROSE
FOURNIER | ALEXIS | EMMANUEL
FRAHAM | KIMBERLY | JOY
FRAHM | VINCENT-LENNART
FRAIWAT | ZIAD | SAMIR
FRAPPIER | JENNIFER | ANN
FRATALIA | LAUREN | ANNE
FREITAG | DAYNA | MICHELLE
FRENZLEY | LAWRENCE | LEON
FRIEDLI | KATHERINE
FRIEDLI | SACHA
FRIEND | GRAYSON | BAKER
FUATAI | KAYLARINA | FAAFETAI
FUCA | FRANCIS | LOUIS JOSEPH
FUCHS | EDELGARD | IRMGARD
FUJIMAKI | HARUTSUNE
FUJIMARU | NANAKO
FUKUSHIMA | HIDETO
FULTON | SHATARA | MICHELLE
GAFFNEY | ELIZABETH | MARY
GALE | KAREN | JACQUELINE
GALLOWAY | FRANCOISE
GAMMON | ANDREW | MARTIN
GAMMON | CHRISTINE | MARY
GARDNER | RODGER | DOUGLAS
GARDNER | WENDY | MARI
GEEL | BJORN
GEORGE | WILLIAM | HENRY
GERAY | DIETMAR | DANIEL
GHAREEB | YOUSEF | N B Y
GIORDA | MARIA
GOH | ECK | KHOON
GOLE | THOMAS | RUSSELL
GOODMAN | DONNA | MARIE
GOODMAN | SCOTT | RUSSEL
GORCESTER | JEFFREY | PAUL
GOW | LACY | KATE
GOWING | HUGH | STAMFORD
GRACE | OLIVIA | DIANE
GRACE | TERRENCE | PATRICK
GRACIE | KRISTEN | MARIE
GRAF | OTMAR | PETER
GRANT | DAVID | THOMAS
GRAU | JACQUELINE | ANN
GRAU | NANCY
GRAY | HEATHER | MARIE
GRAY | JEREMY | RICHARD
GRBESA | JOHN | IVAN
GREEN | ANN | LOUISE
GREGOIRE | BENJAMIN | CLAUDE
GREY | FRANCES | JANE
GRIESSENAUER | CHRISTOPH | JOHANNES
GRIFFITH SHINE | TERRI | SUE
GRINDLEY | NICHOLAS | R
GROS | ELSE | AAFKE
GUERRA | GIADA
GUERRINI | SYLVIA | K
GUPTA | MAHIKA | ANMOL
HA | CHAI
HAIDERER | KARIN | BARBARA
HAIME | VERA | EILEEN
HALLENBECK | PETER | ELLIOT
HALPER | MICHAEL
HAMILTON | ROBERT | BRIAN
HAN | FEIYU
HAN | SUNG | NIM
HAN | YOUNG | JIN
HANDELMAN | RUSSELL | TOBIAS
HANDREN | MIRIAM | KATE
HANSEL-HILL | TESSLYN | ANDREA MARIE
HARLEY | IAN | ALEXANDER WILLIAM
HARNEY | KATHARINE | KIRKER
HARRINGTON | KATHARINE | SAMANTHA
HARRIS | SARAH | LUCIA
HARRISON | MOIRA | JOAN
HASLAM | MATTHEW | RAOUL
HASSLER | JEFFREY | SCOTT
HATA | JUNKO
HAWKES | PAUL | STEWART
HAWTHORNE | JULIE | E HEVEZI
HAYASHI | KYOHEI
HAYDEN | JESSICA | RAPHAELA FERERA
HAYDEN | SARAH | RUTH
HAYES | DAVID | THOMAS
HEALD | COLETTE | LARA
HEARD | KEVIN
HECKELEI | DAVID | JULIAN
HEDGES | LAURA
HEESE | MORGAN | ELIZABETH
HELM | GERTRUDE TRUDE | A
HEMMINGS | COLLETTE | ANNE
HEMMINGS | JAMES | L
HENDERSON | JAMES | ROBERT
HENRY | CLARENCE | RONALD
HEPPNER | MARY | KATHARINE
HERMANS | GIVERNY | EVEANNA
HERSOV | LILY | JULIANA
HERZOG | NAEMI | JOAN
HICKS | TERENCE | EUGENE
HIGASHIJIMA | HIROSHI | H
HIGASHIJIMA | MIDORI | K
HILDEMAR | CASSIE | DESIREE
HILL | BRIAN | THOMAS
HILL | JAMES | WILLIAM
HIMES | CLAUDIA | MARTINA
HINRICHS | TIM | ALAN
HO | SIMON | CHI KEUNG
HODGSON | DAVID | ROSS
HODGSON | JENNIFER | LOUISE
HOLLAND | GILLIAN
HOLSGROVE | JONATHAN | PETER
HOLTHOFF | FLORIAN
HOMAN | KAREN
HONG | CHANGKI
HORNE | AVRIL | ELIZABETH
HOSHIYAMA | JUNKO
HOUPT | SIMON | RICHARD
HOYER | MORTEN
HU | SIMON
HUANG | HAN
HUANG | PING-TZU | ALICE
HUANG | PO-YU
HUANG | YU | CHI
HUBER HESS | ELISABETH | URSULA
HUNTER | ZENITH | WILLIAM
HUTCHISON | KELLY | LEE
HUWILER | CHANTAL
HWU | HAO | CHUAG
IGNACIO | CYNTHIA | MARIE
IKEUE | KOSUKE
IKUTA | NANASE
INDERBITZIN | LUKAS | MARTIN
INOUE | KAZUKI
IRELAND III | NORMAN | GREGORY
ISENSCHMID | DEBORAH | ANN
ISHIDA | HIROMI
ISHIDA | RYUICHIRO
IVERSEN | ANNE | S
IVERSEN | HEINE | B
IVES | DIANA | MARIE
IVEY | THOMAS | ADAM
JABER | JADE | RABAH
JACKSON | MELODEE | JOY
JACKSON | SAMUEL | JOHN PATRICK
JACKSON | TRAVIS | BRADLEY
JACKSON | TYSON | MATTHEW
JAMES | BRUCE | RENNIE
JAMES | NANCY | ANN
JANG | JISEON
JANJUA | SARABJEET
JANSEN | MARTINUS | ALBERTUS T
JAY | MICHELLE
JEFFERIES | ANN-MARIE | JANE
JEFFERSON | GEOFFREY | EUGENE
JENKINS | CHAD | RICHARD
JENKINS | STEPHEN | LUKE
JENSON | KATHRYN | ELIZABETH
JESSON | DAVID | ALAN
JESSON | TINA
JIANG | JIANFENG
JIANG | PEIHUA
JIMENEZ | NATALIA
JIWA | SHAILA
JOHNSON | GEORGE | TRAVIS
JOHNSTON | MARY
JONES | GERI | LOU
JONES | JASON | ANTHONY
JOSEPH-HALLER | CHRISTINE | OLIVIA
JOZWIAK | KINGA | ANNA
JOZWIAK | PAWEL
JURIC | SANJA
KADI | SHADI | IBRAHIM
KADLER | BARRY | GEORGE
KAES | FRANZISKA | MARIA
KAKISHIMA | YASUO
KANAYAMA | MIYUKI
KANEKIYO | FUMIKO
KASAI | TAMAKO
KASIK | PETER | MILES
KATHOEFER | THORSTEN
KATO | MICHIKO
KATTAN | HANAN | FUAD
KAWANO | YOSHIKO
KELLER-TUBERG | ISABEL | SARAH
KELLETT | HANNAH | LORRAINE
KENDALL | MELLISSA | ROBIN
KENDALL | MICHELE
KERR | THOMAS | FINLAYSON
KESTER | ALAN | ROSS
KHAWAJA | ARSALAN
KHEMANI | APARNA
KIEFER | GEORG
KIEFER | KITTI
KIEFER | SABRINA | ANGELICA
KIESLING | KATHERINE | EILEEN
KILPATRICK | DYLAN | ANTHONY
KIM | JOHN | J
KIM | JUN | YOUNG
KIM | MYOUNG | JONG
KIM | SUN | HUI
KIM | TAE | EUN
KIM | TAE | SU
KIM | UISONG
KIMBERLEY | DEBORAH | RAPHELD
KIRIMOTO | ARI
KIRIMOTO | TOMOMASA
KIRKLAND | JEREMY | JAMES
KIRKPATRICK | ROBERT | DUNCAN
KITAZAWA | KAZUYO
KITAZAWA | TOSHIO
KIYOSHIGE | AIKO
KIYOSHIGE | HIDEO
KIYOSHIGE | TEI
KJESBU | KYRRE | M
KLEIN | HANNAH
KLOOSTERMAN | MARIA | CATHARINA MARTJE
KNUTTILA | SAMANTHA | TWIY
KOCI | ELISABETH
KODAMA | HARUKO | OKUBO
KOLAR | MARGUERITE | ANNE
KOMATSU | SO
KOMATSU | TAKAHIRO
KOMATSU | YUMI
KONTAK | PETER | SEAN
KOO | WON | YONG
KOSHMAN | TY
KOSTOV | BILIANA
KOVAC | ANNIKA | NICOLE
KOVACS | ANDRAS
KOWADA | MIYUKI
KOZARSKA | LORA
KRZELJ | KARINA
KUMAKURA | CHIYUKI
KUME | TOMOHIKO
KUNG | LUKAS
KUSHNER | MARIAN | RUTH YORK
KWONG | CHI | YU
LA VIGNE | DOMINIC | JOHN
LABRECQUE | VIVIAN | MICHELLE
LAD | VIJAY | HITESH
LAEHNEMANN | JONAS | KURT
LAGROW | LINDA | LEE
LAICO | JUSTIN | MARTIN LAGUIO
LAINE | BRYAN | TAUNO
LAINE | MARCELLA | LAURETTE
LAM | YIN | SEE
LANDON | JANE | ELIZABETH
LANDY | MARTIN | ELLIS
LARBI | JAMEL
LASA | PETER | ESTEBAN
LAST | TARA | RENEE
LAWLER | ZACHARY | MICHAEL
LAWRENCE | MAX | ELLEN
LAWS | RICHARD | WILLIAM
LAWTON | JOAN | ELIZABETH
LEBLANC | FRANCE
LEE | CAROL
LEE | JI | YEUN
LEGHARI | NADIR
LEHMUELLER-PROBST | RUTH | IRENE
LEIB | PRISCILLA | JOLIE
LEISS-BUELLES | CLAUDIA
LENNOX | ABBIE | TALITHA
LEONE | MARIE | EMMANUELLE CLAUDE
LEONE | STEFANO
LEUNG | CHING | ON
LEUNG | MARTINA | SIU CHU
LI | GANG
LI-HOUPT | ROSEMARY | NOELLE
LIM | KYLE | KAI QI
LIM | WEI | YI
LIN | ANGELA | SHARON
LIN | SU | MEI
LIN | TING
LINDHOLM | AYA
LINDNER | JUTTA | MARIE
LINGARD | GARY | JASON
LINGARD | SUSANNE | MARIE
LIPKA | CATHERINE | MARIE
LITAVEC | TERENCE | MICHAEL
LIU | AIJIA
LIU | YIDAN
LIZE | SINEAD | ANNE
LLOYD | AMY | JORDAN RHIANNON
LOCKE | JOHN | GARDNER
LOIZIDOU | JOANNA
LOK | VAN | KEI
LOMAX | CAMDEN | TYLER
LOMAX | HANNAH | DARBY
LOOMER | JOHN | BRUCE
LOVE | THOMAS | STUART ALEXANDER
LOW | JENNIFER | ASHLEIGH
LOWTHER | RACHEL
LU | WEI
LUCAS | RACHAEL | MAREE
LUI | SYLVIA | WAI LAN SYLVIA
LUITJES | LUCAS | LENNART
LUND | LISA-JANEEN
LUST | ARTHUR
LUX | BELINDA | JANE
LYN | AYAKA | KAWAKAMI
MACLEOD SOPER | SARAH | JEAN
MAGNUSSEN | BIRK | MARTIN
MAHALINGAM | ANBU | SELVAM K M
MAHONY | MARY | JANE
MAINGUENE | ISABELLE | MARIE-CELINE
MAJEED | KHURRAM
MAKI | KATELYN | JEANNE
MALLINSON | ANNA | VICTORIA
MALLINSON | NEIL | CHRISTOPHER
MANHEIM | SHEELAGH | GRAHAM
MARCZAK | BRANDON | MICHEL
MARK | KIYOMI | KANEKO
MARKOVIC | GORAN
MARQUES | ALEXANDER | COUTINHO
MARSCHALL | WILLIAM | LAWRENCE
MARSLAND | ALISTAIR | JAMES WILLIAM
MARTIN | MELODY | ROSE
MARTIN | STEPHANIE | MARGARET
MATSUBARA | HIROKO
MATSUBARA | KAZUHIKO
MATSUBARA | SHUKO
MATSUDA | KAZUKO | M
MATSUMOTO | CHIEKO
MATSUSHITA | HIROKO
MAYNE | FRANCES | CLARE
MCAUGHTRY | CAROLINE | SAMANTHA
MCBRIDE | JAMES | WESTWOOD
MCCLURE | ANN | CELESTE
MCCORMICK | ANDREW | D
MCFADDEN | STEPHEN | LINDLEY
MCGIMPSEY | MARGOT | YVONNE
MCGOWAN | THOMAS | WATSON
MCINTYRE | LUKE | TAYLOR
MCKILLEN | SVEA
MCLEAN RIDDELL | ZOE
MCWHINNIE | RYAN | WESLEY
MEAKIN | MAY | PATRICIA
MEDEIROS | ROSEMARIE
MELANSON | SARAH | GILIAN
MELNICK | JONATHAN | ELI
MEMHARDT | FRANK
MENENDEZ | DAVID | LOPEZ
MENENDEZ | NICOLE | LOPEZ
MERRIMAN | DAVID | GEOFFREY
MICALLEF | VINCENT | A
MICHEL FISHER | CHARLEEN | MAE
MIHALITS | JOSEF
MILES | IAN
MILLER | ARDYS | SMITH
MILLER | NATHANIEL | WAYNE
MILLS | CLAYTON | CLOSE
MILLS | THOMAS | HARRY DINO
MILTON | NORMAN | MARTIN MARK FRIESEN
MINEGISHI | EMI | CLAIRE
MINIHANE | MICHAEL | JOSHUA
MIRABELLA | GIOVANNA | MARIA
MITCHELL | RICHARD | SCOTT
MITTENDORFER | LAURA | COOPER
MIURA | ATSUKO
MIWA | CHIERI
MIYAGI | MIYUKI
MIYAGIM | HISAMITSU
MOGA | IOANA
MOLAND | TERJE
MOLLO DEILMANN | ANNA | SERAFINA
MOLTON | DEIRDRE | EILEEN
MONNAS | ELIZABETH | GEORGE
MORADHASSEL | KAVIAN
MORASSI | MARIA | CHAIB
MORIYA | CHIKAKO
MORRIS | KYLE | GRAHAM
MOTE | TIMOTHY | ISNARDI
MUEHLBERGER | MICHAEL
MUELLER | KLAUS
MUELLER | MARTINA | HANNELORE
MULLEN | REBEKAH | RUTH
MUNCER | JAMISON | FINIAN
MUNK | TYLER | SEBASTIAN
MURAKAMI | YUYA
MURAMATSU | NAOMI
MURPHY | BETH | MARIE
MYERS | ROBERT | STUART
NAGAI | IKUMI
NAGAI | MASAHIKO
NAGANE | HISAE
NAGAO | MAYUKO
NAGAO | YUTAKA
NAGATOMO | DIANE | EDLA HAWLEY
NAKAHARA | TERUO
NAKAJIMA | RUMI
NAKAMURA | MINORI
NAKAMURA | NORIFUMI
NAKANE | KIMIKO
NANEDER | CHRISTOPHER | DAVID
NANTHAKUMAR | AYANA
NANTHAKUMAR | JARED
NAULT | CLAIRE | MARIE
NEGRI | MARIANA | MENDIOLA
NEILLY | ELIZABETH | ANN
NEMETI | AARON
NETTLESHIP | TOMAS
NEWITT | KATHLEEN | MARY
NEWMAN | EMMALINE | KATHERINE
NGUYEN | YOUM | THUY
NICHOLLS | DEVLN | BRYTON
NICHOLS | JON | EDMOND
NICODEMUS | MARY | LYNN
NIEDA | YOSHIE
NIELSEN | BENT | H
NIELSEN | LORELEI | MAKEPEACE
NIIYAMA | KAYO
NIVEN | MORAG
NOBATA | CHIKASHI
NOBATA | ERIKO
NOBLE | PAISLEY | JANE
NOONAN | JANET | CAROL
NOONAN | JOHN | JAMES
NORRIS | DAVID | TAKASHI
NOTTINGHAM | CRAIG | ALAN
NOWOSAD | EWA | KAROLINA
NOWOSAD | RAFAL | MARCIN
O'CONNELL | CHRISTINA | MARIE
O'CONNOR | SEAN | TIMOTHY FRANCIS
OECHSLIN | PAUL | MARTIN
OHTAKE | SHINTARO
OKKERSE | LEONARDUS | A
OLIVER | BEVERLY | JEAN
OMARALI | SHAZAD | BRANDON
ORME | NICOLE | ANDREA
ORSHINSKY | ANGELA | MARIE
OSTERHAGEN | JOHN | HENRY
OSTERHAGEN | KATHERINE | ANNE
O'SULLIVAN | CAROL | DIOGUARDI
OTAKE | MARGARET | PINE
OWEN | ELIZABETH | ANNE
OWENS | BRENT | ANTHONY
OXLER | JEFFREY | PAUL
PAEK | YUN | JONG
PAKHAYEV | VLADIMIR
PALLISTER | WILLIAM | ALLAN
PALOS | AVERY | JOHN
PALUMBO | NICOLO
PANKRATIUS | VICTOR | CHRISTIAN
PARK | JIN | HEE
PARK | KEYYEON
PARKER | ELIZABETH | DAWN
PARRAVICINI | PIETRO | DIONIGIO
PARRIS | JENNIFER | ANNE
PATEL | HEMAL
PATEL | SHAIL
PEDERSEN | SOREN | SANDMANN
PELOT | SANTE | MIGUEL
PENNINGTON | NATHAN | ANDREW
PERKINS | RUSSELL | HUGH
PERRY | MILES | EDWARD
PETRI | ANDREAS | RICHARD
PETTINGER | JAMES | ERNEST
PHILLIPS | CAROLIN | ANNE
PHILLIPS | VERONICA | MIDDLETON
PHILPOTT | JENNIFER | JOY
PHUNG | DARYA | VIOLETTE
PIANGOS | ASSIMINA
PIERSON | MICHELE | RENE
PIJLS | EMILY | BELINDA
PLATTNER | CATHERINE | LOUISE
PLUSS | SUSAN | ELBERTA
POFANTIS | ARISTOMENIS | ANTONIOS
POGGIOLI | PETER | ANTHONY
POKRZYWKA | ROMAIN | VINCENT
POLLARD | CHRISTOPHER | JAMES
POPA | TIBERIU
PORDES | FRANCES | KAY
POREJ | DENI
POTH | MICHAEL | ROLAND
POWDERS | ANNE | MARTIN
PRASIFKA | WILLIAM | THOMAS
PRAVITZ | SCOTT | T
PRINCE | STEPHEN | GRAHAM
PRINCE | THOMAS | CHRISTOPHER WILSON
QUIRION | LINDA
RADOM | JACQUELINE | AMY
RAGY | ALEXANDRA | MARIA
RAMONDA | KRISTOPHER | JAMES
RANDALL-GODDARD | DAVID
RASETTI | FERNAND | SYLVAIN
RASK | ANDERS | KJELL
RAYMOND | MICHAEL | ERIC
READSHAW | BROOKE | E
REIF | VIRGINIA | DARE
REKART | MICHAEL | LOUIS
REMY-KOHLE | INGRID | BARBARA
RENETTE | STEVE
RICHARDS | DAVID | WILLIAM
RICHARDS | JOHN | GORDON LIPPINCOTT
RICHARDSON | SAVANNAH | ELISABETH
RICHTER | CARIN | CHRISTINA
RINTOUL | PATRICIA | LYNN
RITCHIE | JENNIFER | SUSAN
RITSKY | MICHAEL | ANTHONY
RITTENHOUSE | DANA | LOUISE
RIVERA | SABRINA | ANN
ROBERT | MERINDA | RIO
ROBERTS | KENNETH | EUGENE
ROBERTSON | MATTHEW
ROBICHAUD | KENNY | SELBY
RODGERS | SHANNON | YVONNE
ROE | THOMAS | KARL
ROGERS | CORINNE
ROSALIA | DAVID | JONATHAN
ROSAS | LUISA | GABRIELA
ROSIAK | RADOSLAW
ROSS | MAIJA | FANN
ROTMAN | RICHARD | EVERETT
ROTTEVEEL | PIETER | CHRISTIAAN
ROUMEGOUX | AGNES | MARIE
ROUTS | SASKIA | AURORA
RUDD | GARY | RAYMOND
RUDD | JOSEPH | DAVID
RUIZ MORALES | RUBEN
RUSSENBERGER | LYNN | P
SAGAR | JANET | ANNE
SAKUGAWA | YOKO
SAKUTA | CHIHIRO
SALAMON | FILIP
SAM | MALYNNA
SAM | YUIN | SING
SANDWELL | STEPHEN | RICHARD
SANO | KEIKO
SARAN | EDMOND | BERNARD
SASAKI | KAORU
SASAKI | SACHIKO
SATO | HIROYA | NICHOLAS
SAUNDERS | RANDALL | H
SAWADA | YUKIE
SAWHNEY | NOOR | KAUR
SCANLAN | LUCIA | JOY
SCATTOLA | PAOLA
SCHALKWIJK | JACCO | CORNELIS
SCHENCK | DEBORAH | HELEN
SCHILLACI | CLAIRE | JANET
SCHLESSER | MARCIA | HELENA
SCHLESSER | RAOUL
SCHMANDT | ROSEMARIE | ELIZABETH
SCHMID | RAINER | HERRMANN
SCHMIT | MICHELLE | OLGA
SCHMITZ | ANNIKA
SCHNEEBELI | DORIAN | MARK
SCHNEIDER | ESTER
SCHNEIDER | MICHIYO
SCHNIDER | LINDA | JEAN
SCHOCH | KAREN | CECILIA AGNES
SCHOELZEL | JENNIFER
SCHOEN | DANIELLE | CHRISTINE
SCHOENEBERG | PETRA | SYLIVIA
SCHUMACHER | AURELIEN
SCHURTER | DOMINIC | KARL
SCOTT | CATHERINE | ANNE
SCULLION | NICHOLAS | JOHN
SEARS | ANGELA | JANE
SEARY | KATELYN | CAROL
SEIFERT | KELVIN | LEE
SELIG | LISA | BETH
SEMOVSKIH | KATHARINE | RUTH
SEO | JU | KYOUNG
SHAFER | MATTHEW | JAMES
SHAPIRO | ALEKSANDR
SHAROR | SAM | F
SHARP | JOAN | PATRICIA
SHARRATT | SHAWNENE | CRISTELL
SHAW | WILLIAM | BENJAMIN
SHEARD | HANNAH | GRACE
SHEARD | YVONNE | G
SHEETS | RYAN | DALE
SHENTON | PHILI | M
SHIBATA | SHUNSUKE
SHIBATA | TAKAKO
SHIMOJI | KATSUICHI
SHIMOJI | SANAE
SHINKAI | YOSHIKO | N
SHIPP | NATALIE | LYNN
SHIRAI | YOSUKE | SEAN
SHIRKY | DOREEN | ALICIA
SHORTLAND | MARIE | RITA
SIDHU | RANJIT | SINGH
SIGEL | AERIM
SIMMONS | CHARLOTTE | VIRGINIA
SINCLAIR | SHALOM | MARINA
SINGLETON | CHRISTINE | VALDA
SINGLETON | ROBERT | WILLIAM
SLEIGH | SUZANNE | ELIZABETH
SMITH | DANIEL | GRANT
SMITH | MAYUMI
SNYDER | GABRIEL | LEE
SOANE | LUCIAN
SOFRONIJEVIC | ISIDORA
SOLENTE | BETSABEH | KHADIJEH
SON | HAE | KYUNG
SOOD | KATIE | OLIVIA
SOTROPA | BRENDA | JEAN
SOUCY | KEVIN | ROBERT
SOUZA | MICHIKO | MATSUNO
SPITLER | DEBORAH | LEE
ST GELAIS | AMANDA
STAATS | JACKLINE | F
STAHN | JENNIFER | LEE
STAJIC | ALEKSANDAR | PETAR
STAMP | NEWTON | BALDWIN
STANFORD | NAOMI | JANE
STEARNS | ROBIN | LYNN
STEINMANN | SERENA | ANGELINA
STENZEL | ANDREA | MARLIS
STEPHENS | ALEXANDER | MICHAEL
STEWART | BRENDAN | PATRICK
STICKLEY | DOUGLAS | REX
STIMPFL | MARILENA
STINGO | FRANCESCO | CLAUDIO
STOLOWICH | ROSEMARY | ELLIOT
STONE | GALE | SHAFFER
STONE | KIRRI | ELIZABETH
STRAVELAKIS | IRENE | BECKY
STUDIGER | HEINZ | A
STURMAN | MARCELLA | CONVEY MINEO
SU | LILI
SUARDI | TIMOTHEE
SUESS | KRISTEN | MAREE
SUGA | YOKO
SUN | JIANSAN
SUN | NING
SUTTIE | IAN | ROY
SVERKO | JOHN | MICHAEL
SY | GERALYN | JOY
TABBARA | LINA
TABBARA | SOBHI | IBRAHIM
TACHIHARA | KAZUE
TAKAHAMA | YOSHIMI
TAKAI | SHIHO |
TAKENOYA | KAZUMI
TALAC | FILIP
TALARICO | TRINA | LYNN
TANI | KATSUFUMI
TATAR | MARTIN
TAWIL EMANUEL | SHIRA | MIRIAM
TAYLOR | ANDREW | VINCENT
TAYLOR | DUNCAN | JOHN
TAYLOR | JERRINE | NANETTE
TEDESCHI | ANTHONY | MICHAEL
TEESON | DANIEL
TEO | TRISTAN | NICHOLAS
TERADA | KEIKO
TERAHARA | SAIKO
TERWISSCHA VAN SCHELTINGA | MARIJKE | JOSEPHINA J
THERRIEN | MANON | MARIE
THIELE | BENJAMIN | T
THIRUVENGADAM | PARANTHAMAN
THOMAS | MELISSA | ANN
THOMASON | MEGAN | MARIE
THOMPSON | LES | AUGUSTO
THOMPSON | NAO | KOSAKA
THOMSON | CHLOE | ISLA
THOMSON | JENNIFER | CAROL
TICHENOR | NATHANIEL | BENJAMIN
TIETZEN | MARA
TOEWS | LORI | ANN
TOKWE | EMILY | JANE
TOLLMAN | GAVIN | BENNET
TOMAN | WESLEY | MICHAEL
TOUMAJAN | STEPHEN | ARTHUR
TRAUTMANN | GORDON | THEODORE
TREECE | MELISSA | KATHRYN
TROMPAK | NICHOLAS | EDWARD
TROPIANO | GIANCARLO | GIUSEPPE
TRUMPS | ALICE | ANNETTE
TRUSLER | BLAIR | PETER
TUIGAMALA | AOTELE | TANAKA
TUONG | CHI | MINH
TURLESCU | FLORENTINA
TURNBULL | ROBERTA | LIN
TURNER | MARK | RANDALL
UCHIYAMA | MACHIKO
UEDA | KATSUTOSHI
UEDA | MIEKO
UNG | HANG | MAXIME
VALFRE | LUISA
VAN DER POL | ANANDA | SOPHIENNE
VAN DER WAL | SARAH | AISHA
VAN GENT | JOANNE | ELIZABETH
VAN HOENACKER-SALLEY | ANNETTE | MARIE
VAN LOO | JOHN | TIMOTHY
VAN MAAREN | RAMON
VAN NOORDWIJK | CATHARINA | GESINA ELISABETH
VAN ROEKEL | GWENDOLYN | MARIE
VAN T SANT | DAPHNE
VANCE | KAREN | MARIE
VILLANI | MARIA | ROSARIO CATERINA
VILLANI | RITA | IMMACOLATA ANTONETTA
VISTEIN | MICHAEL
VOLLMER | RAMON | ANDRE
WADE | SIMON
WAFFORD | PAUL | ANTONY
WAHLERT | COLIN | STAFFORD
WAKEFIELD | ANDREW | JOHN
WALKER | DONALD | WILLIAM
WALKOVICH | PAUL | DANIEL
WALLACE | MARY | KAYE
WALLACE | WILLIAM | GEORGE
WANG | BINCHAO
WANG | BING
WANG | DURUO
WARNE | MURIEL | ALICE
WARNER | MURRAY | JAY
WARREN | DEBRA | ESTELLE
WARREN | JAMES | R
WATANABE | MEMI
WATERS | VALERIE | JOHANNA
WATSON | REBECCA | ANNE
WATSON | SARAH | LOUISE
WATT | ALEXANDER | TEULON
WEBB | HANNAH | EVELYN
WEDD | PETER | W B
WEIGHILL | LIANE | DAWN
WEIGHTMAN | DAVID
WEINER | FIACHRA | POL
WEISS | KAREN | MARIE
WELTER | YVETTE | MONIQUE
WENNERBERG | LEE | ANN
WEST | PHILIP | JOHN PRESNELL
WESTLAKE | OLIVER | EDWARD FERGUSON
WHITE | BROOKE | ALISON
WHITE | HEIDI | JEANNETTE
WHITE | SIMON
WHITE | TRISTAN | JAMESYSON
WIESMUELLER-HASTINGS | CHRISTOPHER
WIGELL | ARTHUR | HOWARD
WILDMAN | DAVID | JOHN
WILKINS | ZOE | NICOLA
WILLIAMS | ESTHER | LOUISE
WILLIAMS | MICAELA | CHARLEBOIS
WILLIAMSON | ISAAC
WILLIS | STEPHEN | ALEXANDER
WILSON | MARIKO | KAWANO
WILSON | MEGAN | BETH
WILSON | MICHAEL | RAY
WINGATE-BRAD | PETRA | ANNE
WINGER | WENDY | MAE
WINKELMANN | CHELSEA | MARIANNE
WINSLOW | DUSTIN
WITHAAR | HELENA | ELIZABETH
WITT | ELIZABETH | FRANCES TORESEN
WOLFSBERGER | PHILIP | ROBERT
WOLKOW | CONSTANTINE
WONSOWICZ | JOHN | ROBERT
WOOD | FINLAY | DAVID
WOOD | MONET | BLACKBURN
WOODCOCK | FAYE | REBECCA
WOODFORD | LUKE | PAUL
WOODHALL | JOANNE | MARY
WOOLNER | EVAN | STEWART
WORSLEY | MAUREEN | ELIZABETH
WRIGHT | PATRICIA | PHILLIPS
WU | SEAN | EDWARD
WU | YIPING
YAMADA | MINORI
YAMAGUCHI | YUMI | ERICA
YAMAMOTO | ARATA
YANG | FENG | YUN
YEO | HEE | LENG
YEUNG | JEREMY | MARCUS
YEUNG | LINDA | YUK PING
YKEMA | KELLY | RAWLINGS
YOON | SU | WON
YOUNG | JENNY | MAGILL
YUN | SEUNG | JUN
ZEIN | AMIR
ZHANG | SHUJUN
ZUK | MICHAEL | YAR

Dated: July 21, 2025.
Kevin T. Hall,
Manager Team 1940, CSDC—Compliance Support, Development & Communications, LB&I:WEIIC:IIC:T4.

[FR Doc. 2025-13831 Filed 7-22-25; 8:45 am]

BILLING CODE 4830-01-P